DEPARTMENT OF THE INTERIOR

Notice of Availability of a General Management Plan

AGENCY: National Park Service, Interior.

ACTION: Notice of Availability of a General Management Plan, Draft Environmental Impact Statement for Rock Creek Park, Washington, DC

SUMMARY: Pursuant to section 102(2)(c) of the National Environmental Policy Act of 1969, the National Park Service announces the availability of a draft Environmental Impact Statement and General Management Plan (DEIS/GMP) for Rock Creek Park, Washington, D.C. The DEIS/GMP evaluates four alternatives for the park. The document describes and analyzes the environmental impacts of three action alternatives and a no-action alternative. When approved, the plan will guide management actions during the next 15-20 years.

Alternatives: Alternative A would improve visitor safety, better control traffic volumes and speeds through the park, enhance interpretation and educational opportunities, and improve the use of park resources, especially cultural resources. It generally would retain the current scope of visitor uses. In Alternative B, the no action alternative, Rock Creek Park and the Rock Creek and Potomac Parkway would be maintained as they have evolved thus far. There would not be any major changes in resources management, visitor programs, or facilities beyond regular maintenance. The current park road system would be retained and existing traffic management would continue. Developed in response to comments by members of the public who want to promote non-motorized recreation, Alternative C would eliminate traffic in much of the northern part of the park by closing three sections of Beach Drive to automobiles at all times. These would be the same three segments that currently are closed on weekends. It also would implement traffic-reducing and traffic-calming measures on roads in the southern portion of the park and on the Rock Creek and Potomac Parkway. Under Alternative C management of resources other than traffic would be the same as those listed above for Alternative A. Alternative D was developed in response to a letter sent to the National Park Service by the Mayor of Washington, DC. Alternative D, the National Park Service's preferred alternative, would close three segments of Beach Drive in the northern portion of the park to motorized vehicles for a 6-hour period, from 9:30 a.m. to 3:30 p.m. on weekdays. These would be the same segments that currently are closed on weekends. For the other 18 hours of each weekday, including both rush-hour periods, traffic management would be similar to Alternative B, although traffic-calming measures like those in Alternative A would be used to reduce speeds. Under Alternative D management of resources other than traffic would be in the same manner as presented above for Alternative A.

Public Review: A 90-day public review period for comment on the draft document will begin after publication of this notice. In order to facilitate the review process, public reading copies of the DEIS/GMP will be available for review at the following locations:

Rock Creek Park, 3545 Williamsburg Lane,Washington, DC 20008.

National Capital Region, National Park Service, Lobby,1100 Ohio Drive, NW., Washington, DC 20242.

In addition, the document will be posted on the National Park Service Planning site under: http://www.nps.gov/rocr/. Comments on the draft DEIS/GMP should be received (or transmitted by e-mail) no later than 60 days after publication of this Federal Register notice. Written comments may be submitted to: Craig Cellar, National Park Service, P.O. Box 25287, Denver, CO 80225-0287 or e-mailed to: rocr_gmp@nps.gov.

All comments received will be available for public review at Rock Creek Park headquarters. If individuals submitting comments request that their name and/or address be withheld from public disclosure, it will be honored to the extent allowable by law. Such requests must be stated prominently in the beginning of the comments. There also may be circumstances wherein the National Park Service will withhold a respondent's identity as allowable by law. As always, the National Park Service will make available for public inspection all submissions from organizations or businesses and from persons identifying themselves as representatives or officials of organizations and businesses. Anonymous comments may not be considered.

There will also be a public meeting with a date and location to be determined. The meeting will take place no later than two weeks prior to the closing of the public comment period. The date, time and location of the meeting will be identified in local newspapers as well as on the Internet at http://www.nps.gov/rocr.

Decision Process: Notice of the availability of the final document will be published in the Federal Register. Subsequently, notice of an approved Record of Decision will be published in the Federal Register not sooner than 30 days after the final document is distributed. The official responsible for the decision is the Regional Director, National Capital Region, National Park Service; the official responsible for implementation is the Superintendent of Rock Creek Park.

FOR FURTHER INFORMATION CONTACT: Superintendent Adrienne Applewhaite-Coleman, Rock Creek Park, 3545 Williamsburg Lane, Washington, DC 20008, phone 202-895-6000, fax 202-895-6015, e-mail: rocr_superintendent@nps.gov.

Terry R. Carlstrom,
Regional Director, National Capital Region.

[FR Doc. 03-6200 Filed 3-13-03; 8:45 am]

BILLING CODE 4310-70-M